POSTAL SERVICE

39 CFR Part 111

Dual Shipping Labels Discontinued

AGENCY: Postal Service™.

ACTION: Final rule.

SUMMARY: The Postal Service is amending Mailing Standards of the United States Postal Service, Domestic Mail Manual (DMM®) to discontinue the use of dual shipping labels.

DATES: Effective: January 1, 2025.

FOR FURTHER INFORMATION CONTACT: Catherine Knox at (202) 268-5636 or Garry Rodriguez at (202) 268-7281.

SUPPLEMENTARY INFORMATION: On October 15, 2024, the Postal Service published a notice of proposed rulemaking (89 FR 82948) to discontinue the use of dual shipping labels in DMM subsection 602.10. In response to the proposed rule, the Postal Service received four formal responses, one of which was in agreement with the proposal. Two of the responses had several comments. The comments and responses are as follows:

Comment: Three comments requested an extension to the effective date.

Response: The Postal Service has taken these comments into consideration and, upon request, may provide a 90-day extension for compliance until April 1, 2025, for mailers specifically impacted by the elimination of dual shipping labels. However, the effective date will remain January 1, 2025. Mailers seeking an extension should submit a request to the attention of Nicole T. Wilson at delivery.confirmation@usps.gov.

Comment: One comment suggested the proposed solution failed to account for specific use cases where there is no clear alternative to dual shipping labels.

Response: The Postal Service has considered specific use cases and determined that there are few, if any, instances in which there are no alternatives to dual shipping labels. The shipper always has the option to simply determine in advance of label creation what carrier will ultimately deliver the package. Alternatively, if a dual label was created after the effective date of the rule, such label could simply be over labeled or the carrier markings could be obliterated in such fashion as to only display the selected delivery carrier's markings.

Comment: One comment suggests that the definition of what constitutes a “dual shipping label” for purposes of the enforcement of this rule is unclear.

Response: The Postal Service has considered this comment. DMM section 602.10.0 currently states, “Dual shipping labels are used by private shipper[s] to identify both the Postal Service and a private carrier as possible delivery agents.” This definition will now be reinserted into the new rule. Consistent with this, under the new rule, a label that identifies the Postal Service as the carrier may also include additional items of information so long as none of those additional items of information identify delivery agents other than the Postal Service. In other words, a label will not be considered a prohibited “dual shipping label” simply because it includes additional information beyond what is required for Postal Service label and address formats. Instead, it will only be considered a dual shipping label if any of the additional information included thereon identifies or can be used to designate delivery agents other than the Postal Service.

The Postal Service is discontinuing the use of dual shipping labels. Items bearing dual shipping labels should not be accepted and may be returned to the sender.

The Postal Service adopts the described changes to Mailing Standards of the United States Postal Service, Domestic Mail Manual (DMM), incorporated by reference in the Code of Federal Regulations. We will publish an appropriate amendment to 39 CFR part 111 to reflect these changes.

List of Subjects in 39 CFR Part 111

Administrative practice and procedure, Postal Service.

Accordingly, the Postal Service amends Mailing Standards of the United States Postal Service, Domestic Mail Manual (DMM), incorporated by reference in the Code of Federal Regulations as follows (see 39 CFR 111.1):

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise Mailing Standards of the United States Postal Service, Domestic Mail Manual (DMM) as follows:

Mailing Standards of the United States Postal Service, Domestic Mail Manual (DMM)

* * * * *

600 Basic Standards for All Mailing Services

* * * * *

602 Addressing

* * * * *

10.0 Dual Shipping Labels

[Revise the text of 10.0 to read as follows:]

Dual shipping labels are used by private shipper to identify both the Postal Service and a private carrier as possible delivery agents. Mailers must not use dual shipping labels. Items bearing dual shipping labels should not be accepted and may be returned to the sender.

* * * * *

Colleen Hibbert-Kapler,
Attorney, Ethics and Legal Compliance.

[FR Doc. 2024-29435 Filed 12-12-24; 8:45 am]

BILLING CODE P